SECURITIES AND EXCHANGE COMMISSION

[File No. 500-1]

In the Matter of NMI Health, Inc., Order of Suspension of Trading

September 11, 2015.

It appears to the Securities and Exchange Commission that there is a lack of current and accurate information concerning the securities of NMI Health, Inc. (CIK No. 1088213), a Nevada corporation with its principal place of business listed as Reno, Nevada with stock quoted on OTC Link (previously, “Pink Sheets”) operated by OTC Markets Group, Inc. (“OTC Link”) under the ticker symbol NANM, because it has not filed any periodic reports since it filed a Form 10-K for the period ended December 31, 2013. On August 15, 2014, a delinquency letter was sent by the Division of Corporation Finance to NMI Health, Inc. requesting compliance with their periodic filing obligations, and the letter was received by NMI Health, Inc. on August 18, 2014.

The Commission is of the opinion that the public interest and the protection of investors require a suspension of trading in the securities of NMI Health, Inc.

Therefore, it is ordered, pursuant to Section 12(k) of the Securities Exchange Act of 1934, that trading in the securities of NMI Health, Inc. is suspended for the period from 9:30 a.m. EDT on September 11, 2015, through 11:59 p.m. EDT on September 24, 2015.

By the Commission.
Jill M. Peterson,
Assistant Secretary.

[FR Doc. 2015-23238 Filed 9-11-15; 11:15 am]

BILLING CODE 8011-01-P